INTERNATIONAL TRADE COMMISSION

[Investigation No. 731-TA-1410 (Final)]

Rubber Bands From Thailand

Determination

On the basis of the record ¹ developed in the subject investigation, the United States International Trade Commission (“Commission”) determines, pursuant to the Tariff Act of 1930 (“the Act”), that an industry in the United States is materially injured by reason of imports of rubber bands from Thailand, provided for in subheading 4016.99.35 ² of the Harmonized Tariff Schedule of the United States, that have been found by the U.S. Department of Commerce (“Commerce”) to be sold in the United States at less than fair value (“LTFV”).³

¹ The record is defined in sec. 207.2(f) of the Commission's Rules of Practice and Procedure (19 CFR 207.2(f)).

² Merchandise covered by the scope of this investigation may also be imported under HTSUS subheading 4016.99.60.

³ Rubber Bands From Thailand: Final Determination of Sales at Less Than Fair Value, 84 FR 8304, March 7, 2019.

Background

The Commission, pursuant to section 735(b) of the Act (19 U.S.C. 1673d(b)), instituted this investigation effective January 30, 2018, following receipt of a petition filed with the Commission and Commerce by Alliance Rubber Co., Hot Springs, Arkansas. Effective August 29, 2018, the Commission established a general schedule for the conduct of the final phase of its investigations on rubber bands following notification of a preliminary determination by Commerce that imports of rubber bands from China and Thailand were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register on September 17, 2018 (83 FR 46969).⁴ The hearing was held in Washington, DC, on November 13, 2018, and all persons who requested the opportunity were permitted to appear in person or by counsel. On February 11, 2019, the Commission issued final affirmative determinations in its antidumping and countervailing duty investigations of rubber bands from China.⁵ Following notification of a final determination by Commerce that imports of rubber bands from Thailand were being sold at LTFV within the meaning of section 735(a) of the Act (19 U.S.C. 1673d(a)), notice of the supplemental scheduling of the final phase of the Commission's antidumping duty investigation was given by posting copies of the notice in the Office of the Secretary, U.S. International Trade Commission, Washington, DC, and by publishing the notice in the Federal Register of March 29, 2019 (84 FR 12001).

⁴ Due to the lapse in appropriations and ensuing cessation of Commission operations, all import injury investigations conducted under authority of Title VII of the Tariff Act of 1930 accordingly were tolled pursuant to 19 U.S.C. 1671d(b)(2), 1673d(b)(2).

⁵ Rubber Bands from China; Determinations, 84 FR 4534, February 15, 2019; Rubber Bands from China, Inv. Nos. 701-TA-598 and 731-TA-1408 (Final), USITC Publication 4863, February 2019.

The Commission made this determination pursuant to section 735(b) of the Act (19 U.S.C. 1673d(b)). It completed and filed its determination in this investigation on April 22, 2019.

The views of the Commission are contained in USITC Publication 4887 (April 2019), entitled Rubber Bands from Thailand: Investigation No. 731-TA-1410 (Final).

By order of the Commission.
Issued: April 22, 2019.
Lisa Barton,
Secretary to the Commission.

[FR Doc. 2019-08387 Filed 4-25-19; 8:45 am]

BILLING CODE 7020-02-P